DEPARTMENT OF ENERGY

Federal Energy Regulatory Commission

Combined Notice of Filings #1

Take notice that the Commission received the following electric rate filings:

Docket Numbers: ER10-1827-003; ER10-1825-003.

Applicants: Cleco Power LLC.

Description: Supplement to January 29, 2014 Notice of Non-Material Change in Status of the Cleco Companies.

Filed Date: 2/5/14.

Accession Number: 20140205-5085.

Comments Due: 5 p.m. ET 2/26/14.

Docket Numbers: ER10-2538-001.

Applicants: Panoche Energy Center, LLC.

Description: Supplement to June 27, 2013 Triennial Market Power Study in Southwest Region and CAISO BAA of Panoche Energy Center, LLC.

Filed Date: 2/5/14.

Accession Number: 20140205-5102.

Comments Due: 5 p.m. ET 2/18/14.

Docket Numbers: ER14-1257-000.

Applicants: Midcontinent Independent System Operator, Inc.

Description: 2014-02-04_MISO and AEP Coordination Agreement Filing to be effective 2/5/2014.

Filed Date: 2/4/14.

Accession Number: 20140204-5117.

Comments Due: 5 p.m. ET 2/25/14.

Docket Numbers: ER14-1258-000.

Applicants: Duquesne Light Company, PJM Interconnection, L.L.C.

Description: Duquesne Light Company submits tariff filing per 35.13(a)(2)(iii): Duquesne submits revisions to OATT Attach H-17A to revise depreciation rates to be effective 6/1/2014.

Filed Date: 2/4/14.

Accession Number: 20140204-5119.

Comments Due: 5 p.m. ET 2/25/14.

Docket Numbers: ER14-1259-000.

Applicants: Florida Power & Light Company.

Description: FPL and New Smyrna Beach, Florida Original Service Agreement No. 311 to be effective 2/1/2014.

Filed Date: 2/4/14.

Accession Number: 20140204-5120.

Comments Due: 5 p.m. ET 2/25/14.

Docket Numbers: ER14-1260-000.

Applicants: Southern California Edison Company.

Description: GIA & Distribution Service Agreement with Oak Creek Wind Power, LLC to be effective 1/26/2014.

Filed Date: 2/5/14.

Accession Number: 20140205-5001.

Comments Due: 5 p.m. ET 2/26/14.

Docket Numbers: ER14-1261-000.

Applicants: NSTAR Electric Company.

Description: NSTAR Electric Company submits Notice of Termination of Switching and Tagging Agreement with Norwood Municipal Light Department.

Filed Date: 2/4/14.

Accession Number: 20140204-5157.

Comments Due: 5 p.m. ET 2/25/14.

Docket Numbers: ER14-1262-000.

Applicants: Atlantic Power and Gas LLC.

Description: baseline new to be effective 2/6/2014.

Filed Date: 2/5/14.

Accession Number: 20140205-5036.

Comments Due: 5 p.m. ET 2/26/14.

Docket Numbers: ER14-1263-000.

Applicants: Entergy Gulf States Louisiana, L.L.C.

Description: EGSL Compliance (ER13-432) 2-5-2014 to be effective 12/19/2013.

Filed Date: 2/5/14.

Accession Number: 20140205-5073.

Comments Due: 5 p.m. ET 2/26/14.

Docket Numbers: ER14-1264-000.

Applicants: Entergy Louisiana, LLC.

Description: ELL Compliance (ER13-432) 2-5-2014 to be effective 12/19/2013.

Filed Date: 2/5/14.

Accession Number: 20140205-5074.

Comments Due: 5 p.m. ET 2/26/14.

Docket Numbers: ER14-1265-000.

Applicants: Entergy Mississippi, Inc.

Description: EMI Compliance (ER13-432) 2-5-2014 to be effective 12/19/2013.

Filed Date: 2/5/14.

Accession Number: 20140205-5076.

Comments Due: 5 p.m. ET 2/26/14.

Docket Numbers: ER14-1266-000.

Applicants: Entergy New Orleans, Inc.

Description: ENOI Compliance (ER13-432) 2-5-2014 to be effective 12/19/2013.

Filed Date: 2/5/14.

Accession Number: 20140205-5077.

Comments Due: 5 p.m. ET 2/26/14.

Docket Numbers: ER14-1267-000.

Applicants: Entergy Texas, Inc.

Description: ETI Compliance (ER13-432) 2-5-2014 to be effective 12/19/2013.

Filed Date: 2/5/14.

Accession Number: 20140205-5078.

Comments Due: 5 p.m. ET 2/26/14.

Docket Numbers: ER14-1268-000.

Applicants: Entergy Arkansas, Inc.

Description: EAI Compliance (ER13-432) 2-5-2013 to be effective 12/18/2013.

Filed Date: 2/5/14.

Accession Number: 20140205-5079.

Comments Due: 5 p.m. ET 2/26/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 5, 2014.
Nathaniel J. Davis, Sr.,
Deputy Secretary.

[FR Doc. 2014-03078 Filed 2-11-14; 8:45 am]

BILLING CODE 6717-01-P